DEPARTMENT OF HEALTH AND HUMAN SERVICES

Administration for Community Living

Aging and Disability Resource Center/No Wrong Door System COVID-19 Vaccine Access Supplemental Funding

Announcement Type: Initial.

Statutory Authority: The statutory authority for grants under this funding opportunity is contained in Title II of the Older Americans Act of 1965 (OAA) [as amended through P.L. 116-131] (42 U.S.C. 3012). Title II Section 202b(8), the Coronavirus Aid, Relief, and Economic Security (CARES) Act of 2020, and the Coronavirus Response and Relief Supplemental Appropriations Act, 2021. The Centers for Disease Control and Prevention has the authority under Section 301 of the Public Health Service Act and Division M, Consolidated Appropriations Act, 2021, Public Law 116-260.

Catalog of Federal Domestic Assistance (CFDA) Number: 93.048.

DATES: The deadline for submission of the supplemental funding request is 11:59 p.m. EST April 9, 2021.

I. Funding Opportunity Description

This funding opportunity is to support a new effort to get the nation's most vulnerable and at-risk seniors and people with disabilities vaccinated. Among some of the hardest to reach are seniors and people with disabilities who are unable to leave their home without assistance or are homebound, are socially isolated, live independently but are medically fragile, or have cognitive impairments. These individuals are at particular risk because they may depend on people coming into their homes to provide services, including personal care assistance. To assist in getting these particularly vulnerable and at-risk older adults and people with disabilities vaccinated, the Biden-Harris Administration has announced new funding to reach these important communities. The Administration for Community Living, in partnership with the Centers for Disease Control and Prevention, provides this supplemental funding opportunity specifically for current Aging and Disability Resource Center (ADRC)/No Wrong Door (NWD) COVID-19 CARES Act funding grantees.

Use of Funds

These grants will provide assistance with scheduling vaccine appointments, transportation to vaccine sites, direct support services needed to attend vaccine appointments, connection to in-home vaccination options, and education about the importance of receiving the vaccine to older adults and people with disabilities. In addition, these grants will enable the aging and disability networks to identify people who are unable to independently travel to vaccination sites and to provide technical assistance to local health departments on improving access to vaccines for people with disabilities and older adults.

This funding is specific to vaccine access support and is encouraged to support all ADRC/NWD partner agencies and community based organizations who may be able to reach the most at-risk individuals. Grantees are strongly encouraged to partner and coordinate with state and local agencies for this effort.

Expected activities to be performed under this funding opportunity include:

• Public outreach and education about COVID-19 vaccinations (e.g. public announcements, targeted marketing push, sharing information on ADRC/NWD website) including ways to address vaccination hesitancy.

• Individual outreach and awareness (e.g., direct calls or in-person visits to individuals who may be eligible).

• Vaccine registration support, including through statewide websites, 211 or in-person.

• Transportation assistance to and from vaccination sites, including support during wait times at the vaccination site.

• Support for unique vaccine distribution methods including arranging for in-home vaccinations for individuals enrolled in state funded long term services and supports (LTSS) programs who may have difficultly leaving the home.

• Addressing accessibility needs at vaccination sites or post vaccination recovery needs (e.g., coordinating with AT programs.)

Key requirements for grantees under this emergency FOA will include:

• Grantees are expected to regularly participate in updates or touchpoints with all ADRC/NWD partners and sub-grantees to discuss progress, challenges, and potential solutions related to vaccination access for older adults and people with disabilities.

• Grantees will report to ACL on a semi-annual basis on challenges and successes that have been experienced by all partners and sub-grantees and will share ideas and receive technical assistance to address challenges.

• Grantees will submit annual progress reports on the activities conducted, challenges, successes, and lessons learned and provide a written summary.

• Grantees are expected to spend funds in reasonable timeframe. Grantees who have not drawn funds from the initial ADRC-COVID grant must explain how they will spend this supplemental funding in a prudent manner.

II. Award Information

1. Funding Instrument Type

These grants are discretionary, supplemental grants, authorized by the Centers for Disease Control and Prevention under Section 301 of the Public Health Service Act and Division M, Consolidated Appropriations Act, 2021, Public Law 116-260 and appropriated through the Coronavirus Response and Relief Supplemental Appropriations Act of 2021.

2. Anticipated Total Priority Area Funding per Budget Period

The total available funding for this opportunity is $26,000,000. ACL intends to make available, under this program announcement, supplemental awards to ADRC-COVID grantees. The period of performance for these grants during which grant activities must occur is estimated to be April 1, 2021 and is projected to end on September 30, 2022. ADRC-COVID grantees are eligible to apply for and receive the amount of funding in the table below:

State/territory | Available amount
AK | $159,812
AL | 395,251
AR | 238,292
AS | 159,812
AZ | 578,369
CA | 1,572,442
CM | 159,812
CO | 395,251
CT | 238,292
DC | 159,812
DE | 159,812
FL | 1,572,442
GA | 892,287
GU | 159,812
HI | 159,812
IA | 238,292
ID | 159,812
IL | 892,287
IN | 578,369
KS | 238,292
KY | 395,251
LA | 395,251
MA | 578,369
MD | 395,251
ME | 159,812
MI | 892,287
MN | 395,251
MO | 578,369
MS | 238,292
MT | 159,812
NC | 892,287
ND | 159,812
NE | 159,812
NH | 159,812
NJ | 578,369
NM | 238,292
NV | 238,292
NY | 1,572,442
OH | 892,287
OK | 395,251
OR | 395,251
PA | 1,572,442
PR | 395,251
RI | 159,812
SC | 395,251
TN | 578,369
TX | 1,572,442
UT | 238,292
VA | 578,369
VT | 159,812
WA | 578,369
WI | 395,251
WV | 238,292
WY | 159,812

III. Eligibility Criteria and Other Requirements

1. Eligible Applicants for this award are existing ADRC/NWD COVID-19 CARES Act grantees that received funding on April 1, 2020.

2. Cost Sharing or Matching is not required.

3. Grantees must submit a project narrative through an online form and complete an application in GrantSolutions. Submission instructions will be shared by the ACL Project Officer. The online application form is as follows:

ADRC/NWD COVID-19 Vaccine Access Supplemental Funding Project Narrative

Current Need

1. Briefly describe how your state/territory's ADRC/NWD System is involved in increasing access to COVID-19 vaccines and how these supplemental funds will support these activities. Please also share any quantitative data (i.e. increased number of volunteers by X number of individuals, dedicated X number of staff for vaccine rollout activities only, increased staff hours by X amount, increase in X number of calls, etc.) or anecdotal stories that demonstrate increase in demand for services and support due to vaccine-related needs (e.g., education and outreach, scheduling vaccine appointments).

Use of Funds

2. How many ADRC/NWD entities, or sub-grantees, will be supported by this funding?

2a. Please indicate the number of anticipated ADRC/NWD entities or sub-grantees by organization type. If an entity/sub-grantee falls into more than organization type, please use your judgement to select the most appropriate.

□ AAA

□ ADRC

□ Advocacy partner

□ Assistive Technology (AT)

□ CIL/ILC

□ Other Disability partner

□ Traumatic Brain Injury (TBI) partners

□ Veteran or Military partner organizations

□ Other CBO

□ Other Local Government partner

□ Tribal Partner

□ University Partner

□ Other (please explain)

3. Please select all of the following ways the supplemental funding will be used.

□ Public outreach and education (e.g. public announcements, targeted marketing push, sharing information on ADRC/NWD website)

□ Individual outreach and awareness (e.g., direct calls or in-person visits to individuals who may be eligible)

□ Vaccine registration, including through statewide websites, 211 or in-person

□ Transportation

□ Vaccine distribution site

□ Addressing accessibility needs (e.g., by coordinating with AT programs)

□ Other, please describe

4. Do you anticipate this supplemental funding meeting demand in any of the following areas?

□ Increasing number of volunteers

□ Increasing number of staff for vaccine access activities only

□ Increasing staff hours

□ Increasing call volume

□ Increasing marketing activities (i.e. developing outreach and education materials, flyers, hosting virtual townhalls, radio spots, infomercials, etc.)

□ Other (please explain)

5. Which of the following state-level partners do you plan to coordinate with for vaccine access activities?

□ Developmental Disabilities Councils

□ State Department or Division of Disabilities

□ State Assistive Technology Act Programs

□ State health department

□ State Labor and Workforce Development agency

□ State Transportation agency

□ State Medicaid Agency

□ State Departments supporting Military or Veteran programs

□ University Centers for Excellence in Developmental Disabilities (UCEDDs)

□ Other (please explain)

6. Which of the following local partners do you plan to coordinate with for vaccine access activities?

□ Area Agencies on Aging (AAAs)

□ Aging and Disability Resource Centers (ADRCs)

□ Home health agencies

□ Health Plans

□ Local health departments

□ Local transportation providers

□ Housing and Urban Development Service Coordinators

□ Residential providers

□ Employment centers

□ Faith-based organizations

□ Centers for Independent Living (CILs)

□ Other Disability partner

□ Advocacy partners

□ Traumatic Brain Injury (TBI) partners

□ Tribal partners

□ Other local government partner

□ Other community based organizations (CBOs)

□ Other (please explain)

Demographics/Population Reach

7. Include a projection for number of people served, by demographic, with vaccine access support through this supplemental funding:

□ Individuals Age 60+

□ Individuals Aged 21 to 59

□ Individuals Age 20 and below

□ Individuals with any type of disabilities

□ Individuals enrolled in state funded long term services and supports (LTSS) programs who may have difficultly leaving the home

Technical Assistance Needs

8. In which of the following vaccine-related technical assistance support do you anticipate needing?

□ Support in coordinating with public health departments or other state/local partners and agencies

□ Addressing staff capacity and time to meet demand

□ Support for recruiting volunteers to support staff

□ Reaching people in priority groups for vaccine access)

□ Reaching minority and underserved communities

□ Addressing lack of access to transportation services

□ Addressing vaccine hesitancy through education and other outreach strategies

□ Other, please explain

4. DUNS Number

All grant applicants must obtain and keep current a D-U-N-S number from Dun and Bradstreet. It is a nine-digit identification number, which provides unique identifiers of single business entities. The D-U-N-S number can be obtained from: https://iupdate.dnb.com/iUpdate/viewiUpdateHome.htm.

5. Intergovernmental Review

Executive Order 12372, Intergovernmental Review of Federal Programs, is not applicable to these grant applications.

IV. Submission Information

1. Instructions for completing the application will be available from the ACL Project Officer.

2. Submission Dates and Times.

To receive consideration, applications must be submitted by 11:59 p.m. Eastern Time on April 09, 2021, through www.GrantSolutions.gov.

VII. Agency Contacts

Direct inquiries regarding programmatic issues to:

Ami Patel

Phone: 202.795.7376

Email: Ami.Patel@acl.hhs.gov

Dated: April 2, 2021.
Alison Barkoff,
Acting Administrator and Assistant Secretary for Aging.

[FR Doc. 2021-07208 Filed 4-7-21; 8:45 am]

BILLING CODE 4154-01-P